GENERAL SERVICES ADMINISTRATION

48 CFR Parts 501 and 552

[GSAR Case 2024-G502; Docket No. GSA- GSAR-2024-0022; Sequence No. 1]

RIN 3090-AK81

General Services Administration Acquisition Regulation (GSAR); Update to OMB Approval Table

Correction

In rule document 2025-05430 appearing on page 14054 in the issue of Friday, March 28, 2025, make the following corrections:

1. On page 14054, in the third column, in the 33rd line, “JAN 2025” should read “MAR 2025”.

552.270-1 [Corrected]

2. On page 14054, in section 552.270-1, in the third column, in the fifth through fourth lines from the bottom, “JAN 2025” should read “MAR 2025”.

[FR Doc. C1-2025-05430 Filed 4-8-25; 8:45 am]

BILLING CODE 0099-10-D